DEPARTMENT OF TRANSPORTATION

Federal Aviation Administration

14 CFR Part 71

[Docket No. FAA-2018-0770; Amendment No. 71-50]

RIN 2120-AA66

Airspace Designations; Incorporation by Reference Amendments

AGENCY: Federal Aviation Administration (FAA), DOT.

ACTION: Final rule, administrative correction.

SUMMARY: This action incorporates certain airspace designation amendments into FAA Order 7400.11C, dated August 13, 2018, and effective September 15, 2018, for incorporation by reference.

DATES: Effective date 0901 UTC November 6, 2018. The Director of the Federal Register approves this incorporation by reference action under Title 1 CFR part 51, subject to the annual revision of FAA Order 7400.11 and publication of conforming amendments.

ADDRESSES: FAA Order 7400.11C, Airspace Designations and Reporting Points, and subsequent amendments can be viewed on line at http://www.faa.gov/airtraffic/publications/. For further information, you can contact the Airspace Policy Group, Federal Aviation Administration, 800 Independence Avenue SW, Washington, DC 20591; telephone: (202) 267-8783. The Order is also available for inspection at the National Archives and Records Administration (NARA). For information on the availability of FAA Order 7400.11C at NARA, call (202) 741-6030, or go to https://www.archives.gov/federal-register/cfr/ibr-locations.html.

FAA Order 7400.11, Airspace Designations and Reporting Points, is published yearly and effective on September 15.

FOR FURTHER INFORMATION CONTACT: Sarah A. Combs, Airspace Policy Group, Office of Airspace Services, Federal Aviation Administration, 800 Independence Avenue SW, Washington, DC 20591; telephone: (202) 267-8783.

SUPPLEMENTARY INFORMATION

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it makes the necessary updates for airspace areas within the National Airspace System.

History

Federal Aviation Administration Airspace Order 7400.11, Airspace Designations and Reporting Points, incorporated by reference in 14 CFR 71.1, is published yearly. Amendments referred to as “effective date straddling amendments” were published under Order 7400.11B (dated August 3, 2017, and effective September 15, 2017), but became effective under Order 7400.11C (dated August 13, 2018, and effective September 15, 2018). This action incorporates these rules into the current FAA Order 7400.11C.

Accordingly, as this is an administrative correction to update final rule amendments into FAA Order 7400.11C, notice and public procedure under 5 U.S.C. 553(b) are unnecessary. Also, to bring these rules and legal descriptions current, I find that good cause exists, under 5 U.S.C. 553(d), for making this amendment effective in less than 30 days.

Availability and Summary of Documents for Incorporation by Reference

This document amends FAA Order 7400.11C, Airspace Designations and Reporting Points, dated August 13, 2018, and effective September 15, 2018. FAA Order 7400.11C is publicly available as listed in the ADDRESSES section of this document. FAA Order 7400.11C lists Class A, B, C, D, and E airspace areas, air traffic service routes, and reporting points.

The Rule

This action amends title 14 Code of Federal Regulations (14 CFR) part 71 by incorporating certain final rules into the current FAA Order 7400.11C, Airspace Designations and Reporting Points, dated August 13, 2018, and effective September 15, 2018, which are depicted on aeronautical charts.

Regulatory Notices and Analyses

The FAA has determined that this regulation only involves an established body of technical regulations for which frequent and routine amendments are necessary to keep them operationally current. It, therefore: (1) Is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Corrections

1. For Docket No. FAA-2018-0291; Airspace Docket No. 18-AGL-10 (83 FR 35540; July 27, 2018)

Correction

a. On page 35540, column 1, line 32, and line 45, under ADDRESSES, “. . . FAA Order 7400.11B . . .” is corrected to read “. . . FAA Order 7400.11C . . .”.

b. On page 35540, column 2, line 50, and line 53, under Availability and Summary of Documents for Incorporation by Reference, “. . . FAA Order 7400.11B . . .” is corrected to read “. . . FAA Order 7400.11C . . .”.

c. On page 35540, column 2, line 37, under History, “. . . FAA Order 7400.11B, dated August 3, 2017, and effective September 15, 2017, . . .” is corrected to read “. . . FAA Order 7400.11C, dated August 13, 2018, and effective September 15, 2018 . . .”.

d. On page 35540, column 2, line 47, under Availability and Summary of Documents for Incorporation by Reference, “. . . FAA Order 7400.11B, Airspace Designations and Reporting Points, dated August 3, 2017, and effective September 15, 2017, . . .” is corrected to read “. . . FAA Order 7400.11C, Airspace Designations and Reporting Points, dated August 13, 2018, and effective September 15, 2018, . . .”.

§ 71.1 [Corrected]

e. On page 35540, column 3, line 62, under Amendatory Instruction 2, “. . . FAA Order 7400.11B, Airspace Designations and Reporting Points, dated August 3, 2017, and effective September 15, 2017, . . .” is corrected to read “. . . FAA Order 7400.11C, Airspace Designations and Reporting Points, dated August 13, 2018, and effective September 15, 2018, . . .”.

2. For Docket No. FAA-2018-0310; Airspace Docket No. 18-ASW-7 (83 FR 35541, July 27, 2018).

Correction

a. On page 35541, column 1, line 49, and column 2, line 3, under ADDRESSES, “. . . FAA Order 7400.11B . . .” is corrected to read “. . . FAA Order 7400.11C . . .”.

b. On page 35541, column 3, line 2, and line 5, under Availability and Summary of Documents for Incorporation by Reference, “. . . FAA Order 7400.11B . . .” is corrected to read “. . . FAA Order 7400.11C . . .”.

c. On page 35541, column 2, line 55, under History, “. . . FAA Order 7400.11B, dated August 3, 2017, and effective September 15, 2017, . . .” is corrected to read “. . . FAA Order 7400.11C, dated August 13, 2018, and effective September 15, 2018 . . .”.

d. On page 35541, column 2, line 65, under Availability and Summary of Documents for Incorporation by Reference, “. . . FAA Order 7400.11B, Airspace Designations and Reporting Points, dated August 3, 2017, and effective September 15, 2017, . . .” is corrected to read “. . . FAA Order 7400.11C, Airspace Designations and Reporting Points, dated August 13, 2018, and effective September 15, 2018, . . .”.

§ 71.1 [Corrected]

e. On page 35542, column 1, line 12, under Amendatory Instruction 2, “. . . FAA Order 7400.11B, Airspace Designations and Reporting Points, dated August 3, 2017, and effective September 15, 2017, . . .” is corrected to read “. . . FAA Order 7400.11C, Airspace Designations and Reporting Points, dated August 13, 2018, and effective September 15, 2018, . . .”.

3. For Docket No. FAA-2017-1083; Airspace Docket No. 17-ACE-13 (83 FR 35542, July 27, 2018).

Correction

a. On page 35542, column 2, line 18, and line 31, under ADDRESSES, “. . . FAA Order 7400.11B . . .” is corrected to read “. . . FAA Order 7400.11C . . .”.

b. On page 35543, column 1, line 57, and line 60, under Availability and Summary of Documents for Incorporation by Reference, “. . . FAA Order 7400.11B . . .” is corrected to read “. . . FAA Order 7400.11C . . .”.

c. On page 35543, column 1, line 43, under History, “. . . FAA Order 7400.11B, dated August 3, 2017, and effective September 15, 2017, . . .” is corrected to read “. . . FAA Order 7400.11C, dated August 13, 2018, and effective September 15, 2018 . . .”.

d. On page 35543, column 1, line 54, under Availability and Summary of Documents for Incorporation by Reference, “. . . FAA Order 7400.11B, Airspace Designations and Reporting Points, dated August 3, 2017, and effective September 15, 2017, . . .” is corrected to read “. . . FAA Order 7400.11C, Airspace Designations and Reporting Points, dated August 13, 2018, and effective September 15, 2018, . . .”.

§ 71.1 [Corrected]

e. On page 35543, column 3, line 51, under Amendatory Instruction 2, “. . . FAA Order 7400.11B, Airspace Designations and Reporting Points, dated August 3, 2017, and effective September 15, 2017, . . .” is corrected to read “. . . FAA Order 7400.11C, Airspace Designations and Reporting Points, dated August 13, 2018, and effective September 15, 2018, . . .”.

4. For Docket No. FAA-2018-0139; Airspace Docket No. 18-ACE-1 (83 FR 37422, August 1, 2018).

Correction

a. On page 37422, column 2, line 25, and line 38, under ADDRESSES, “. . . FAA Order 7400.11B . . .” is corrected to read “. . . FAA Order 7400.11C . . .”.

b. On page 37422, column 3, line 36, and line 39, under Availability and Summary of Documents for Incorporation by Reference, “. . . FAA Order 7400.11B . . .” is corrected to read “. . . FAA Order 7400.11C . . .”.

c. On page 37422, column 3, line 23, under History, “. . . FAA Order 7400.11B, dated August 3, 2017, and effective September 15, 2017, . . .” is corrected to read “. . . FAA Order 7400.11C, dated August 13, 2018, and effective September 15, 2018 . . .”.

d. On page 37422, column 3, line 33, under Availability and Summary of Documents for Incorporation by Reference, “. . . FAA Order 7400.11B, Airspace Designations and Reporting Points, dated August 3, 2017, and effective September 15, 2017, . . .” is corrected to read “. . . FAA Order 7400.11C, Airspace Designations and Reporting Points, dated August 13, 2018, and effective September 15, 2018, . . .”.

§ 71.1 [Corrected]

e. On page 37423, column 1, line 50, under Amendatory Instruction 2, “. . . FAA Order 7400.11B, Airspace Designations and Reporting Points, dated August 3, 2017, and effective September 15, 2017, . . .” is corrected to read “. . . FAA Order 7400.11C, Airspace Designations and Reporting Points, dated August 13, 2018, and effective September 15, 2018, . . .”.

5. For Docket No. FAA-2016-9377; Airspace Docket No. 16-AEA-8 (83 FR 38016, August 3, 2018).

Correction

a. On page 38016, column 3, line 24, and line 37, under ADDRESSES, “. . . FAA Order 7400.11B . . .” is corrected to read “. . . FAA Order 7400.11C . . .”.

b. On page 38017, column 1, line 46, and line 49, under Availability and Summary of Documents for Incorporation by Reference, “. . . FAA Order 7400.11B . . .” is corrected to read “. . . FAA Order 7400.11C . . .”.

c. On page 38017, column 1, line 31, under History, “. . . FAA Order 7400.11B, dated August 3, 2017, and effective September 15, 2017, . . .” is corrected to read “. . . FAA Order 7400.11C, dated August 13, 2018, and effective September 15, 2018 . . .”.

d. On page 38017, column 1, line 43, under Availability and Summary of Documents for Incorporation by Reference, “. . . FAA Order 7400.11B, Airspace Designations and Reporting Points, dated August 3, 2017, and effective September 15, 2017, . . .” is corrected to read “. . . FAA Order 7400.11C, Airspace Designations and Reporting Points, dated August 13, 2018, and effective September 15, 2018, . . .”.

§ 71.1 [Corrected]

e. On page 38017, column 3, line 6, under Amendatory Instruction 2, “. . . Federal Aviation Administration Order 7400.11B, Airspace Designations and Reporting Points, dated August 3, 2017, and effective September 15, 2017, . . .” is corrected to read “. . . FAA Order 7400.11C, Airspace Designations and Reporting Points, dated August 13, 2018, and effective September 15, 2018, . . .”.

6. For Docket No. FAA-2018-0137; Airspace Docket No. 18-ACE-2 (83 FR 38253, August 6, 2018).

Correction

a. On page 38253, column 3, line 41, and line 54, under ADDRESSES, “. . . FAA Order 7400.11B . . .” is corrected to read “. . . FAA Order 7400.11C . . .”.

b. On page 38254, column 2, line 14, and line 17, under Availability and Summary of Documents for Incorporation by Reference, “. . . FAA Order 7400.11B . . .” is corrected to read “. . . FAA Order 7400.11C . . .”.

c. On page 38254, column 2, line 1, under History, “. . . FAA Order 7400.11B, dated August 3, 2017, and effective September 15, 2017, . . .” is corrected to read “. . . FAA Order 7400.11C, dated August 13, 2018, and effective September 15, 2018 . . .”.

d. On page 38254, column 2, line 11, under Availability and Summary of Documents for Incorporation by Reference, “. . . FAA Order 7400.11B, Airspace Designations and Reporting Points, dated August 3, 2017, and effective September 15, 2017, . . .” is corrected to read “. . . FAA Order 7400.11C, Airspace Designations and Reporting Points, dated August 13, 2018, and effective September 15, 2018, . . .”.

§ 71.1 [Corrected]

e. On page 38255, column 1, line 12, under Amendatory Instruction 2, “. . . FAA Order 7400.11B, Airspace Designations and Reporting Points, dated August 3, 2017, and effective September 15, 2017, . . .” is corrected to read “. . . FAA Order 7400.11C, Airspace Designations and Reporting Points, dated August 13, 2018, and effective September 15, 2018, . . .”.

7. For Docket No. FAA-2017-0426; Airspace Docket No. 17-AEA-8 (83 FR 39583, August 10, 2018).

Correction

a. On page 39583, column 2, line 62, and column 3, line 12, under ADDRESSES, “. . . FAA Order 7400.11B . . .” is corrected to read “. . . FAA Order 7400.11C . . .”.

b. On page 39584, column 1, line 12, and line 15, under Availability and Summary of Documents for Incorporation by Reference, “. . . FAA Order 7400.11B . . .” is corrected to read “. . . FAA Order 7400.11C . . .”.

c. On page 39583, column 3, line 64, under History, “. . . FAA Order 7400.11B, dated August 3, 2017, and effective September 15, 2017, . . .” is corrected to read “. . . FAA Order 7400.11C, dated August 13, 2018, and effective September 15, 2018 . . .”.

d. On page 39584, column 1, line 9, under Availability and Summary of Documents for Incorporation by Reference, “. . . FAA Order 7400.11B, Airspace Designations and Reporting Points, dated August 3, 2017, and effective September 15, 2017, . . .” is corrected to read “. . . FAA Order 7400.11C, Airspace Designations and Reporting Points, dated August 13, 2018, and effective September 15, 2018, . . .”.

§ 71.1 [Corrected]

e. On page 39584, column 2, line 21, under Amendatory Instruction 2, “. . . FAA Order 7400.11B, Airspace Designations and Reporting Points, dated August 3, 2017, and effective September 15, 2017, . . .” is corrected to read “. . . FAA Order 7400.11C, Airspace Designations and Reporting Points, dated August 13, 2018, and effective September 15, 2018, . . .”.

8. For Docket No. FAA-2017-0865; Airspace Docket No. 17-ASO-19 (83 FR 39584, August 10, 2018).

Correction

a. On page 39584, column 3, line 29, and line 42, under ADDRESSES, “. . . FAA Order 7400.11B . . .” is corrected to read “. . . FAA Order 7400.11C . . .”.

b. On page 39585, column 1, line 46, and line 49, under Availability and Summary of Documents for Incorporation by Reference, “. . . FAA Order 7400.11B . . .” is corrected to read “. . . FAA Order 7400.11C . . .”.

c. On page 39585, column 1, line 32, under History, “. . . FAA Order 7400.11B, dated August 3, 2017, and effective September 15, 2017, . . .” is corrected to read “. . . FAA Order 7400.11C, dated August 13, 2018, and effective September 15, 2018 . . .”.

d. On page 39585, column 1, line 43, under Availability and Summary of Documents for Incorporation by Reference, “. . . FAA Order 7400.11B, Airspace Designations and Reporting Points, dated August 3, 2017, and effective September 15, 2017, . . .” is corrected to read “. . . FAA Order 7400.11C, Airspace Designations and Reporting Points, dated August 13, 2018, and effective September 15, 2018, . . .”.

§ 71.1 [Corrected]

e. On page 39585, column 3, line 16, under Amendatory Instruction 2, “. . . Federal Aviation Administration Order 7400.11B, Airspace Designations and Reporting Points, dated August 3, 2017, and effective September 15, 2017, . . .” is corrected to read “. . . FAA Order 7400.11C, Airspace Designations and Reporting Points, dated August 13, 2018, and effective September 15, 2018, . . .”.

9. For Docket No. FAA-2018-0255; Airspace Docket No. 18-ASO-6 (83 FR 39586, August 10, 2018).

Correction

a. On page 39586, column 2, line 26, and line 39, under ADDRESSES, “. . . FAA Order 7400.11B . . .” is corrected to read “. . . FAA Order 7400.11C . . .”.

b. On page 39586, column 3, line 36, and line 39, under Availability and Summary of Documents for Incorporation by Reference, “. . . FAA Order 7400.11B . . .” is corrected to read “. . . FAA Order 7400.11C . . .”.

c. On page 39586, column 3, line 53, under History, “. . . FAA Order 7400.11B, dated August 3, 2017, and effective September 15, 2017, . . .” is corrected to read “. . . FAA Order 7400.11C, dated August 13, 2018, and effective September 15, 2018 . . .”.

d. On page 39586, column 3, line 33, under Availability and Summary of Documents for Incorporation by Reference, “. . . FAA Order 7400.11B, Airspace Designations and Reporting Points, dated August 3, 2017, and effective September 15, 2017, . . .” is corrected to read “. . . FAA Order 7400.11C, Airspace Designations and Reporting Points, dated August 13, 2018, and effective September 15, 2018, . . .”.

§ 71.1 [Corrected]

e. On page 39587, column 1, line 48, under Amendatory Instruction 2, “. . . Federal Aviation Administration Order 7400.11B, Airspace Designations and Reporting Points, dated August 3, 2017, and effective September 15, 2017, . . .” is corrected to read “. . . FAA Order 7400.11C, Airspace Designations and Reporting Points, dated August 13, 2018, and effective September 15, 2018, . . .”.

10. For Docket No. FAA-2018-0101; Airspace Docket No. 18-AGL-4 (83 FR 39587, August 10, 2018).

Correction

a. On page 39587, column 2, line 44, and line 47, under ADDRESSES, “. . . FAA Order 7400.11B . . .” is corrected to read “. . . FAA Order 7400.11C . . .”.

b. On page 39587, column 3, line 63, and line 66, under Availability and Summary of Documents for Incorporation by Reference, “. . . FAA Order 7400.11B . . .” is corrected to read “. . . FAA Order 7400.11C . . .”.

c. On page 39587, column 3, line 49, under History, “. . . FAA Order 7400.11B, dated August 3, 2017, and effective September 15, 2017, . . .” is corrected to read “. . . FAA Order 7400.11C, dated August 13, 2018, and effective September 15, 2018 . . .”.

d. On page 39587, column 3, line 59, under Availability and Summary of Documents for Incorporation by Reference, “. . . FAA Order 7400.11B, Airspace Designations and Reporting Points, dated August 3, 2017, and effective September 15, 2017, . . .” is corrected to read “. . . FAA Order 7400.11C, Airspace Designations and Reporting Points, dated August 13, 2018, and effective September 15, 2018, . . .”.

§ 71.1 [Corrected]

e. On page 39588, column 2, line 23, under Amendatory Instruction 2, “. . . FAA Order 7400.11B, Airspace Designations and Reporting Points, dated August 3, 2017, and effective September 15, 2017, . . .” is corrected to read “. . . FAA Order 7400.11C, Airspace Designations and Reporting Points, dated August 13, 2018, and effective September 15, 2018, . . .”.

11. For Docket No. FAA-2018-0290; Airspace Docket No. 18-AGL-9 (83 FR 42022, August 20, 2018).

Correction

a. On page 42022, column 2, line 40, and line 53, under ADDRESSES, “. . . FAA Order 7400.11B . . .” is corrected to read “. . . FAA Order 7400.11C . . .”.

b. On page 42022, column 3, line 58, and line 61, under Availability and Summary of Documents for Incorporation by Reference, “. . . FAA Order 7400.11B . . .” is corrected to read “. . . FAA Order 7400.11C . . .”.

c. On page 42022, column 3, line 45, under History, “. . . FAA Order 7400.11B, dated August 3, 2017, and effective September 15, 2017, . . .” is corrected to read “. . . FAA Order 7400.11C, dated August 13, 2018, and effective September 15, 2018 . . .”.

d. On page 42022, column 3, line 55, under Availability and Summary of Documents for Incorporation by Reference, “. . . FAA Order 7400.11B, Airspace Designations and Reporting Points, dated August 3, 2017, and effective September 15, 2017, . . .” is corrected to read “. . . FAA Order 7400.11C, Airspace Designations and Reporting Points, dated August 13, 2018, and effective September 15, 2018, . . .”.

§ 71.1 [Corrected]

e. On page 42023, column 2, line 12, under Amendatory Instruction 2, “. . . FAA Order 7400.11B, Airspace Designations and Reporting Points, dated August 3, 2017, and effective September 15, 2017, . . .” is corrected to read “. . . FAA Order 7400.11C, Airspace Designations and Reporting Points, dated August 13, 2018, and effective September 15, 2018, . . .”.

12. For Docket No. FAA-2018-0044; Airspace Docket No. 17-ANM-35 (83 FR 42023, August 20, 2018).

Correction

a. On page 42023, column 3, line 9, under ADDRESSES, “. . . FAA Order 7400.11B . . .” is corrected to read “. . . FAA Order 7400.11C . . .”.

b. On page 42024, column 1, line 34, and line 37, under Availability and Summary of Documents for Incorporation by Reference, “. . . FAA Order 7400.11B . . .” is corrected to read “. . . FAA Order 7400.11C . . .”.

c. On page 42024, column 1, line 21, under History, “. . . FAA Order 7400.11B, dated August 3, 2017, and effective September 15, 2017, . . .” is corrected to read “. . . FAA Order 7400.11C, dated August 13, 2018, and effective September 15, 2018 . . .”.

d. On page 42024, column 1, line 31, under Availability and Summary of Documents for Incorporation by Reference, “. . . FAA Order 7400.11B, Airspace Designations and Reporting Points, dated August 3, 2017, and effective September 15, 2017, . . .” is corrected to read “. . . FAA Order 7400.11C, Airspace Designations and Reporting Points, dated August 13, 2018, and effective September 15, 2018, . . .”.

§ 71.1 [Corrected]

e. On page 42024, column 2, line 39, under Amendatory Instruction 2, “. . . FAA Order 7400.11B, Airspace Designations and Reporting Points, dated August 3, 2017, and effective September 15, 2017, . . .” is corrected to read “. . . FAA Order 7400.11C, Airspace Designations and Reporting Points, dated August 13, 2018, and effective September 15, 2018, . . .”.

13. For Docket No. FAA-2018-0328; Airspace Docket No. 18-ASO-7 (83 FR 42585, August 23, 2018).

a. On page 42585, column 3, line 32, and line 45, under ADDRESSES, “. . . FAA Order 7400.11B . . .” is corrected to read “. . . FAA Order 7400.11C . . .”.

b. On page 42586, column 1, line 59, and line 62, under Availability and Summary of Documents for Incorporation by Reference, “. . . FAA Order 7400.11B . . .” is corrected to read “. . . FAA Order 7400.11C . . .”.

c. On page 42586, column 1, line 45, under History, “. . . FAA Order 7400.11B, dated August 3, 2017, and effective September 15, 2017, . . .” is corrected to read “. . . FAA Order 7400.11C, dated August 13, 2018, and effective September 15, 2018 . . .”.

d. On page 42586, column 1, line 56, under Availability and Summary of Documents for Incorporation by Reference, “. . . FAA Order 7400.11B, Airspace Designations and Reporting Points, dated August 3, 2017, and effective September 15, 2017, . . .” is corrected to read “. . . FAA Order 7400.11C, Airspace Designations and Reporting Points, dated August 13, 2018, and effective September 15, 2018, . . .”.

§ 71.1 [Corrected]

e. On page 42586, column 3, line 19, under Amendatory Instruction 2, “. . . Federal Aviation Administration Order 7400.11B, Airspace Designations and Reporting Points, dated August 3, 2017, and effective September 15, 2017, . . .” is corrected to read “. . . FAA Order 7400.11C, Airspace Designations and Reporting Points, dated August 13, 2018, and effective September 15, 2018, . . .”.

14. For Docket No. FAA-2017-1159; Airspace Docket No. 17-ASO-23 (83 FR 42587, August 23, 2018).

a. On page 42587, column 1, line 50, and column 2, line 54, under ADDRESSES, “. . .FAA Order 7400.11B. . .” is corrected to read “. . .FAA Order 7400.11C. . .”.

b. On page 42588, column 1, line 36, and line 39, under Availability and Summary of Documents for Incorporation by Reference, “. . .FAA Order 7400.11B. . .” is corrected to read “. . .FAA Order 7400.11C. . .”.

c. On page 42588, column 1, line 22, under History, “. . .FAA Order 7400.11B, dated August 3, 2017, and effective September 15, 2017,. . .” is corrected to read “. . . FAA Order 7400.11C, dated August 13, 2018, and effective September 15, 2018. . .”.

d. On page 42588, column 2, line 7, under The Rule, “. . .FAA Order 7400.11B, dated August 3, 2017, and effective September 15, 2017,. . .” is corrected to read “. . . FAA Order 7400.11C, dated August 13, 2018, and effective September 15, 2018. . .”.

e. On page 42588, column 1, line 33, under Availability and Summary of Documents for Incorporation by Reference, “. . .FAA Order 7400.11B, Airspace Designations and Reporting Points, dated August 3, 2017, and effective September 15, 2017,. . .” is corrected to read “. . .FAA Order 7400.11C, Airspace Designations and Reporting Points, dated August 13, 2018, and effective September 15, 2018,. . .”.

§ 71.1 [Corrected]

f. On page 42588, column 3, line 3, under Amendatory Instruction 2, “. . .Federal Aviation Administration Order 7400.11B, Airspace Designations and Reporting Points, dated August 3, 2017, and effective September 15, 2017,. . .” is corrected to read “. . .FAA Order 7400.11C, Airspace Designations and Reporting Points, dated August 13, 2018, and effective September 15, 2018,. . .”.

15. For Docket No. FAA-2018-0437; Airspace Docket No. 18-ASO-5 (83 FR 43750, August 28, 2018).

Correction

a. On page 43750, column 3, line 36, and line 49, under ADDRESSES, “. . .FAA Order 7400.11B. . .” is corrected to read “. . .FAA Order 7400.11C. . .”.

b. On page 43751, column 2, line 35, and line 38, under Availability and Summary of Documents for Incorporation by Reference, “. . .FAA Order 7400.11B. . .” is corrected to read “. . .FAA Order 7400.11C. . .”.

c. On page 43751, column 1, line 37, under History, “. . .FAA Order 7400.11B, dated August 3, 2017, and effective September 15, 2017,. . .” is corrected to read “. . . FAA Order 7400.11C, dated August 13, 2018, and effective September 15, 2018. . .”.

d. On page 43751, column 2, line 32, under Availability and Summary of Documents for Incorporation by Reference, “. . .FAA Order 7400.11B, Airspace Designations and Reporting Points, dated August 3, 2017, and effective September 15, 2017,. . .” is corrected to read “. . .FAA Order 7400.11C, Airspace Designations and Reporting Points, dated August 13, 2018, and effective September 15, 2018,. . .”.

§ 71.1 [Corrected]

e. On page 43752, column 3, line 44, under Amendatory Instruction 2, “. . .FAA Order 7400.11B, Airspace Designations and Reporting Points, dated August 3, 2017, and effective September 15, 2017,. . .” is corrected to read “. . .FAA Order 7400.11C, Airspace Designations and Reporting Points, dated August 13, 2018, and effective September 15, 2018,. . .”.

16. For Docket No. FAA-2018-0062; Airspace Docket No. 18-ASO-3 (83 FR 43968, August 29, 2018).

Correction

a. On page 43968, column 3, line 45, and line 58, under ADDRESSES, “. . .FAA Order 7400.11B. . .” is corrected to read “. . .FAA Order 7400.11C. . .”.

b. On page 443969, column 2, line 3, and line 6, under Availability and Summary of Documents for Incorporation by Reference, “. . .FAA Order 7400.11B. . .” is corrected to read “. . .FAA Order 7400.11C. . .”.

c. On page 43969, column 1, line 54, under History, “. . .FAA Order 7400.11B, dated August 3, 2017, and effective September 15, 2017,. . .” is corrected to read “. . . FAA Order 7400.11C, dated August 13, 2018, and effective September 15, 2018. . .”.

d. On page 43969, column 2, line 57, under The Rule, “. . .FAA Order 7400.11B, dated August 3, 2017, and effective September 15, 2017,. . .” is corrected to read “. . . FAA Order 7400.11C, dated August 13, 2018, and effective September 15, 2018. . .”.

e. On page 43969, column 1, line 66, under Availability and Summary of Documents for Incorporation by Reference, “. . .FAA Order 7400.11B, Airspace Designations and Reporting Points, dated August 3, 2017, and effective September 15, 2017,. . .” is corrected to read “. . .FAA Order 7400.11C, Airspace Designations and Reporting Points, dated August 13, 2018, and effective September 15, 2018,. . .”.

§ 71.1 [Corrected]

f. On page 43969, column 3, line 50, under Amendatory Instruction 2, “. . .Federal Aviation Administration Order 7400.11B, Airspace Designations and Reporting Points, dated August 3, 2017, and effective September 15, 2017,. . .” is corrected to read “. . .FAA Order 7400.11C, Airspace Designations and Reporting Points, dated August 13, 2018, and effective September 15, 2018,. . .”.

17. For Docket No. FAA-2018-0138; Airspace Docket No. 18-ASW-5 (83 FR 43970, August 29, 2018).

Correction

a. On page 43970, column 2, line 36, and line 49, under ADDRESSES, “. . .FAA Order 7400.11B. . .” is corrected to read “. . .FAA Order 7400.11C. . .”.

b. On page 43970, column 3, line 63, and line 66, under Availability and Summary of Documents for Incorporation by Reference, “. . .FAA Order 7400.11B. . .” is corrected to read “. . .FAA Order 7400.11C. . .”.

c. On page 43970, column 3, line 49, under History, “. . .FAA Order 7400.11B, dated August 3, 2017, and effective September 15, 2017,. . .” is corrected to read “. . . FAA Order 7400.11C, dated August 13, 2018, and effective September 15, 2018. . .”.

d. On page 43970, column 3, line 60, under Availability and Summary of Documents for Incorporation by Reference, “. . .FAA Order 7400.11B, Airspace Designations and Reporting Points, dated August 3, 2017, and effective September 15, 2017,. . .” is corrected to read “. . .FAA Order 7400.11C, Airspace Designations and Reporting Points, dated August 13, 2018, and effective September 15, 2018,...”.

§ 71.1 [Corrected]

e. On page 43971, column 3, line 6, under Amendatory Instruction 2, “. . .FAA Order 7400.11B, Airspace Designations and Reporting Points, dated August 3, 2017, and effective September 15, 2017,. . .” is corrected to read “. . .FAA Order 7400.11C, Airspace Designations and Reporting Points, dated August 13, 2018, and effective September 15, 2018,. . .”.

18. For Docket No. FAA-2018-0131; Airspace Docket No. 18-ASO-4 (83 FR 44214, August 30, 2018).

Correction

a. On page 44214, column 2, line 48, and line 61, under ADDRESSES, “. . .FAA Order 7400.11B. . .” is corrected to read “. . .FAA Order 7400.11C. . .”.

b. On page 44215, column 1, line 67, and column 2, line 2, under Availability and Summary of Documents for Incorporation by Reference, “. . .FAA Order 7400.11B. . .” is corrected to read “. . .FAA Order 7400.11C. . .”.

c. On page 44215, column 2, line 39, under The Rule, “. . .FAA Order 7400.11B, dated August 3, 2017, and effective September 15, 2017,. . .” is corrected to read “. . . FAA Order 7400.11C, dated August 13, 2018, and effective September 15, 2018. . .”.

d. On page 44215, column 1, line 64, under Availability and Summary of Documents for Incorporation by Reference, “. . .FAA Order 7400.11B, Airspace Designations and Reporting Points, dated August 3, 2017, and effective September 15, 2017,. . .” is corrected to read “. . .FAA Order 7400.11C, Airspace Designations and Reporting Points, dated August 13, 2018, and effective September 15, 2018,. . .”.

§ 71.1 [Corrected]

e. On page 44215, column 3, line 32, under Amendatory Instruction 2, “. . .Federal Aviation Administration Order 7400.11B, Airspace Designations and Reporting Points, dated August 3, 2017, and effective September 15, 2017,. . .” is corrected to read “. . .FAA Order 7400.11C, Airspace Designations and Reporting Points, dated August 13, 2018, and effective September 15, 2018,. . .”.

19. For Docket No. FAA-2018-0219; Airspace Docket No. 17-AGL-23 (83 FR 45337, September 7, 2018).

Correction

a. On page 45338, column 1, line 19, and line 32, under ADDRESSES, “. . .FAA Order 7400.11B. . .” is corrected to read “. . .FAA Order 7400.11C. . .”.

b. On page 45339, column 1, line 1, and line 4, under Availability and Summary of Documents for Incorporation by Reference, “. . .FAA Order 7400.11B. . .” is corrected to read “. . .FAA Order 7400.11C. . .”.

c. On page 45338, column 3, line 56, under History, “. . .FAA Order 7400.11B, dated August 3, 2017, and effective September 15, 2017,. . .” is corrected to read “. . . FAA Order 7400.11C, dated August 13, 2018, and effective September 15, 2018. . .”.

d. On page 45338, column 3, line 66, under Availability and Summary of Documents for Incorporation by Reference, “. . .FAA Order 7400.11B, Airspace Designations and Reporting Points, dated August 3, 2017, and effective September 15, 2017,. . .” is corrected to read “. . .FAA Order 7400.11C, Airspace Designations and Reporting Points, dated August 13, 2018, and effective September 15, 2018,. . .”.

§ 71.1 [Corrected]

e. On page 45339, column 2, line 46, under Amendatory Instruction 2, “. . .FAA Order 7400.11B, Airspace Designations and Reporting Points, dated August 3, 2017, and effective September 15, 2017,. . .” is corrected to read “. . .FAA Order 7400.11C, Airspace Designations and Reporting Points, dated August 13, 2018, and effective September 15, 2018,. . .”.

20. For Docket No. FAA-2017-1051; Airspace Docket No. 17-AGL-21 (83 FR 45554, September 10, 2018).

Correction

a. On page 45554, column 3, line 30, and line 43, under ADDRESSES, “. . .FAA Order 7400.11B. . .” is corrected to read “. . .FAA Order 7400.11C. . .”.

b. On page 45555, column 1, line 47, and line 50, under Availability and Summary of Documents for Incorporation by Reference, “. . .FAA Order 7400.11B. . .” is corrected to read “. . .FAA Order 7400.11C. . .”.

c. On page 45555, column 1, line 34, under History, “. . .FAA Order 7400.11B, dated August 3, 2017, and effective September 15, 2017,. . .” is corrected to read “. . . FAA Order 7400.11C, dated August 13, 2018, and effective September 15, 2018. . .”.

d. On page 45555, column 1, line 44, under Availability and Summary of Documents for Incorporation by Reference, “. . .FAA Order 7400.11B, Airspace Designations and Reporting Points, dated August 3, 2017, and effective September 15, 2017,. . .” is corrected to read “. . .FAA Order 7400.11C, Airspace Designations and Reporting Points, dated August 13, 2018, and effective September 15, 2018,. . .”.

§ 71.1 [Corrected]

e. On page 45555, column 3, line 12, under Amendatory Instruction 2, “. . . FAA Order 7400.11B, Airspace Designations and Reporting Points, dated August 3, 2017, and effective September 15, 2017, . . .” is corrected to read “. . . FAA Order 7400.11C, Airspace Designations and Reporting Points, dated August 13, 2018, and effective September 15, 2018,. . .”.

21. For Docket No. FAA-2018-0475; Airspace Docket No. 18-ANE-4 (83 FR 45813, September 11, 2018).

Correction

a. On page 45813, column 2, line 32, and line 45, under ADDRESSES, “. . .FAA Order 7400.11B . . .” is corrected to read “. . . FAA Order 7400.11C. . .”.

b. On page 45813, column 3, line 52, and line 55, under Availability and Summary of Documents for Incorporation by Reference, “. . . FAA Order 7400.11B. . .” is corrected to read “. . .FAA Order 7400.11C . . .”.

c. On page 45813, column 3, line 38, under History, “. . . FAA Order 7400.11B, dated August 3, 2017, and effective September 15, 2017, . . .” is corrected to read “. . . FAA Order 7400.11C, dated August 13, 2018, and effective September 15, 2018 . . .”.

d. On page 45813, column 3, line 49, under Availability and Summary of Documents for Incorporation by Reference, “. . . FAA Order 7400.11B, Airspace Designations and Reporting Points, dated August 3, 2017, and effective September 15, 2017, . . .” is corrected to read “. . . FAA Order 7400.11C, Airspace Designations and Reporting Points, dated August 13, 2018, and effective September 15, 2018, . . .”.

§ 71.1 [Corrected]

e. On page 45814, column 1, line 60, under Amendatory Instruction 2, “. . . FAA Order 7400.11B, Airspace Designations and Reporting Points, dated August 3, 2017, and effective September 15, 2017, . . .” is corrected to read “. . . FAA Order 7400.11C, Airspace Designations and Reporting Points, dated August 13, 2018, and effective September 15, 2018, . . .”.

22. For Docket No. FAA-2017-1043; Airspace Docket No. 17-AEA-18 (83 FR 45814, September 11, 2018).

Correction

a. On page 45814, column 2, line 51, and column 3, line 5, under ADDRESSES, “. . . FAA Order 7400.11B . . .” is corrected to read “. . . FAA Order 7400.11C . . .”.

b. On page 45815, column 1, line 8, and line 11, under Availability and Summary of Documents for Incorporation by Reference, “. . . FAA Order 7400.11B . . .” is corrected to read “. . . FAA Order 7400.11C . . .”.

c. On page 45814, column 3, line 57, under History, “. . . FAA Order 7400.11B, dated August 3, 2017, and effective September 15, 2017, . . .” is corrected to read “. . . FAA Order 7400.11C, dated August 13, 2018, and effective September 15, 2018 . . .”.

d. On page 45815, column 1, line 5, under Availability and Summary of Documents for Incorporation by Reference, “. . . FAA Order 7400.11B, Airspace Designations and Reporting Points, dated August 3, 2017, and effective September 15, 2017, . . .” is corrected to read “. . . FAA Order 7400.11C, Airspace Designations and Reporting Points, dated August 13, 2018, and effective September 15, 2018, . . .”.

§ 71.1 [Corrected]

e. On page 45815, column 2, line 19, under Amendatory Instruction 2, “. . . Federal Aviation Administration Order 7400.11B, Airspace Designations and Reporting Points, dated August 3, 2017, and effective September 15, 2017, . . .” is corrected to read “. . . FAA Order 7400.11C, Airspace Designations and Reporting Points, dated August 13, 2018, and effective September 15, 2018, . . .”.

23. For Docket No. FAA-2018-0006; Airspace Docket No. 18-AGL-1 (83 FR 45815, September 11, 2018).

Correction

a. On page 45815, column 3, line 26, and line 39, under ADDRESSES, “. . . FAA Order 7400.11B. . .” is corrected to read “. . . FAA Order 7400.11C. . .”.

b. On page 45816, column 1, line 36, and line 39, under Availability and Summary of Documents for Incorporation by Reference, “. . . FAA Order 7400.11B . . .” is corrected to read “. . . FAA Order 7400.11C. . .”.

c. On page 45816, column 1, line 23, under History, “. . . FAA Order 7400.11B, dated August 3, 2017, and effective September 15, 2017, . . .” is corrected to read “. . . FAA Order 7400.11C, dated August 13, 2018, and effective September 15, 2018 . . .”.

d. On page 45816, column 1, line 33, under Availability and Summary of Documents for Incorporation by Reference, “. . . FAA Order 7400.11B, Airspace Designations and Reporting Points, dated August 3, 2017, and effective September 15, 2017, . . .” is corrected to read “. . . FAA Order 7400.11C, Airspace Designations and Reporting Points, dated August 13, 2018, and effective September 15, 2018, . . .”.

§ 71.1 [Corrected]

e. On page 45816, column 2, line 61, under Amendatory Instruction 2, “. . . FAA Order 7400.11B, Airspace Designations and Reporting Points, dated August 3, 2017, and effective September 15, 2017, . . .” is corrected to read “. . .FAA Order 7400.11C, Airspace Designations and Reporting Points, dated August 13, 2018, and effective September 15, 2018, . . .”.

24. For Docket No. FAA-2018-0322; Airspace Docket No. 18-AEA-12 (83 FR 45818, September 11, 2018).

Correction

a. On page 45818, column 1, line 42, and line 55, under ADDRESSES, “. . . FAA Order 7400.11B . . .” is corrected to read “. . . FAA Order 7400.11C . . .”.

b. On page 45818 column 3, line 10, and line 13, under Availability and Summary of Documents for Incorporation by Reference, “. . . FAA Order 7400.11B . . .” is corrected to read “. . . FAA Order 7400.11C . . .”.

c. On page 45818, column 2, line 64, under History, “. . . FAA Order 7400.11B, dated August 3, 2017, and effective September 15, 2017, . . .” is corrected to read “. . . FAA Order 7400.11C, dated August 13, 2018, and effective September 15, 2018 . . .”.

d. On page 45818, column 3, line 7, under Availability and Summary of Documents for Incorporation by Reference, “. . . FAA Order 7400.11B, Airspace Designations and Reporting Points, dated August 3, 2017, and effective September 15, 2017, . . .” is corrected to read “. . . FAA Order 7400.11C, Airspace Designations and Reporting Points, dated August 13, 2018, and effective September 15, 2018, . . .”.

§ 71.1 [Corrected]

e. On page 45819, column 1, line 32, under Amendatory Instruction 2, “. . . Federal Aviation Administration Order 7400.11B, Airspace Designations and Reporting Points, dated August 3, 2017, and effective September 15, 2017, . . .” is corrected to read “. . . FAA Order 7400.11C, Airspace Designations and Reporting Points, dated August 13, 2018, and effective September 15, 2018, . . .”.

25. For Docket No. FAA-2018-0727; Airspace Docket No. 18-AEA-15 (83 FR 45819, September 11, 2018).

Correction

a. On page 45819, column 2, line 31, under ADDRESSES, “. . . FAA Order 7400.11B . . .” is corrected to read “. . . FAA Order 7400.11C . . .”.

b. On page 45819, column 3, line 46, and line 49, under Availability and Summary of Documents for Incorporation by Reference, “. . . FAA Order 7400.11B . . .” is corrected to read “. . . FAA Order 7400.11C . . .”.

c. On page 45819, column 3, line 32, under History, “. . . FAA Order 7400.11B, dated August 3, 2017, and effective September 15, 2017, . . .” is corrected to read “. . . FAA Order 7400.11C, dated August 13, 2018, and effective September 15, 2018 . . .”.

d. On page 45819, column 3, line 43, under Availability and Summary of Documents for Incorporation by Reference, “. . . FAA Order 7400.11B, Airspace Designations and Reporting Points, dated August 3, 2017, and effective September 15, 2017, . . .” is corrected to read “. . . FAA Order 7400.11C, Airspace Designations and Reporting Points, dated August 13, 2018, and effective September 15, 2018, . . .”.

§ 71.1 [Corrected]

e. On page 45820, column 1, line 57, under Amendatory Instruction 2, “. . . Federal Aviation Administration Order 7400.11B, Airspace Designations and Reporting Points, dated August 3, 2017, and effective September 15, 2017, . . .” is corrected to read “. . . FAA Order 7400.11C, Airspace Designations and Reporting Points, dated August 13, 2018, and effective September 15, 2018, . . .”.

26. For Docket No. FAA-2017-1202; Airspace Docket No. 17-AWP-31 (83 FR 46386, September 13, 2018).

Correction

a. On page 46386, column 2, line 22, under ADDRESSES, “. . . FAA Order 7400.11B . . .” is corrected to read “. . . FAA Order 7400.11C . . .”.

b. On page 46386, column 3, line 42, and line 45, under Availability and Summary of Documents for Incorporation by Reference, “. . . FAA Order 7400.11B . . .” is corrected to read “. . . FAA Order 7400.11C . . .”.

c. On page 46386, column 3, line 29, under History, “. . . FAA Order 7400.11B, dated August 3, 2017, and effective September 15, 2017, . . .” is corrected to read “. . . FAA Order 7400.11C, dated August 13, 2018, and effective September 15, 2018 . . .”.

d. On page 46386, column 3, line 39, under Availability and Summary of Documents for Incorporation by Reference, “. . . FAA Order 7400.11B, Airspace Designations and Reporting Points, dated August 3, 2017, and effective September 15, 2017, . . .” is corrected to read “. . . FAA Order 7400.11C, Airspace Designations and Reporting Points, dated August 13, 2018, and effective September 15, 2018, . . .”.

§ 71.1 [Corrected]

e. On page 46387, column 1, line 51, under Amendatory Instruction 2, “. . . FAA Order 7400.11B, Airspace Designations and Reporting Points, dated August 3, 2017, and effective September 15, 2017, . . .” is corrected to read “. . . FAA Order 7400.11C, Airspace Designations and Reporting Points, dated August 13, 2018, and effective September 15, 2018, . . .”.

27. For Docket No. FAA-2017-1145; Airspace Docket No. 17-AWP-19 (83 FR 46387, September 13, 2018).

Correction

a. On page 46387, column 3, line 49, under ADDRESSES, “. . . FAA Order 7400.11B . . .” is corrected to read “. . . FAA Order 7400.11C . . .”.

b. On page 46388, column 1, line 65, and column 2, line 2, under Availability and Summary of Documents for Incorporation by Reference, “. . . FAA Order 7400.11B . . .” is corrected to read “. . . FAA Order 7400.11C . . .”.

c. On page 46388, column 1, line 52, under History, “. . . FAA Order 7400.11B, dated August 3, 2017, and effective September 15, 2017, . . .” is corrected to read “. . . FAA Order 7400.11C, dated August 13, 2018, and effective September 15, 2018 . . .”.

d. On page 46388, column 1, line 62, under Availability and Summary of Documents for Incorporation by Reference, “. . . FAA Order 7400.11B, Airspace Designations and Reporting Points, dated August 3, 2017, and effective September 15, 2017, . . .” is corrected to read “. . . FAA Order 7400.11C, Airspace Designations and Reporting Points, dated August 13, 2018, and effective September 15, 2018, . . .”.

§ 71.1 [Corrected]

e. On page 46388, column 3, line 46, under Amendatory Instruction 2, “. . . FAA Order 7400.11B, Airspace Designations and Reporting Points, dated August 3, 2017, and effective September 15, 2017, . . .” is corrected to read “. . . FAA Order 7400.11C, Airspace Designations and Reporting Points, dated August 13, 2018, and effective September 15, 2018, . . .”.

28. For Docket No. FAA-2018-0018; Airspace Docket No. 17-AGL-20 (83 FR 46389, September 13, 2018).

Correction

a. On page 46389, column 1, line 52, and column 2, line 5, under ADDRESSES, “. . . FAA Order 7400.11B . . .” is corrected to read “. . . FAA Order 7400.11C . . .”.

b. On page 46389, column 2, line 63, and column 3, line 1, under Availability and Summary of Documents for Incorporation by Reference, “. . . FAA Order 7400.11B . . .” is corrected to read “. . . FAA Order 7400.11C . . .”.

c. On page 46389, column 2, line 60, under Availability and Summary of Documents for Incorporation by Reference, “. . . FAA Order 7400.11B, Airspace Designations and Reporting Points, dated August 3, 2017, and effective September 15, 2017, . . .” is corrected to read “. . . FAA Order 7400.11C, Airspace Designations and Reporting Points, dated August 13, 2018, and effective September 15, 2018, . . .”.

§ 71.1 [Corrected]

d. On page 46390, column 1, line 12, under Amendatory Instruction 2, “. . . FAA Order 7400.11B, Airspace Designations and Reporting Points, dated August 3, 2017, and effective September 15, 2017, . . .” is corrected to read “. . . FAA Order 7400.11C, Airspace Designations and Reporting Points, dated August 13, 2018, and effective September 15, 2018, . . .”.

29. For Docket No. FAA-2017-1088; Airspace Docket No. 17-AWP-25 (83 FR 46390, September 13, 2018).

Correction

a. On page 46390, column 2, line 1, under ADDRESSES, “. . . FAA Order 7400.11B . . .” is corrected to read “. . . FAA Order 7400.11C . . .”.

b. On page 46390, column 3, line 13, and line 16, under Availability and Summary of Documents for Incorporation by Reference, “. . . FAA Order 7400.11B . . .” is corrected to read “. . . FAA Order 7400.11C . . .”.

c. On page 46390, column 2, line 66, under History, “. . . FAA Order 7400.11B, dated August 3, 2017, and effective September 15, 2017, . . .” is corrected to read “. . . FAA Order 7400.11C, dated August 13, 2018, and effective September 15, 2018 . . .”.

d. On page 46390, column 3, line 10, under Availability and Summary of Documents for Incorporation by Reference, “. . . FAA Order 7400.11B, Airspace Designations and Reporting Points, dated August 3, 2017, and effective September 15, 2017, . . .” is corrected to read “. . . FAA Order 7400.11C, Airspace Designations and Reporting Points, dated August 13, 2018, and effective September 15, 2018, . . .”.

§ 71.1 [Corrected]

e. On page 46391, column 1, line 21, under Amendatory Instruction 2, “. . . FAA Order 7400.11B, Airspace Designations and Reporting Points, dated August 3, 2017, and effective September 15, 2017, . . .” is corrected to read “. . . FAA Order 7400.11C, Airspace Designations and Reporting Points, dated August 13, 2018, and effective September 15, 2018, . . .”.

30. For Docket No. FAA-2018-0328; Airspace Docket No. 18-ASO-7 (83 FR 46639, September 14, 2018).

Correction

a. On page 46639, column 3, line 20, under History, “. . . FAA Order 7400.11B, dated August 3, 2017, and effective September 15, 2017, . . .” is corrected to read “. . . FAA Order 7400.11C, dated August 13, 2018, and effective September 15, 2018 . . .”.

Issued in Washington, DC, on October 30, 2018.
Rodger A. Dean Jr.,
Manager, Airspace Policy Group.

[FR Doc. 2018-24210 Filed 11-5-18; 8:45 am]

BILLING CODE 4910-13-P